ENVIRONMENTAL PROTECTION AGENCY

[FRL-9913-43-OA]

Notification of a Public Meeting of the Science Advisory Board Advisory Panel on EPA's Report on the Environment 2014

AGENCY: Environmental Protection Agency (EPA).

ACTION: Notice.

SUMMARY: The Environmental Protection Agency (EPA) Science Advisory Board (SAB) Staff Office announces a public meeting of the SAB Advisory Panel on EPA's Report on the Environment (ROE) 2014.

DATES: The SAB Advisory Panel on EPA's Report on the Environment 2014 public meeting will be held on Wednesday, July 30, 2014, from 9:00 a.m. to 5:00 p.m. Eastern Time and Thursday, July 31, 2014, from 8:30 a.m. to 4:00 p.m. Eastern Time.

ADDRESSES: The public meeting will be held at the J.W. Marriott, 1331 Pennsylvania Avenue NW., Washington, DC 20004.

FOR FURTHER INFORMATION CONTACT: Any member of the public who wishes further information concerning the public meeting may contact Ms. Stephanie Sanzone, Designated Federal Officer (DFO), via telephone at (202) 564-2067 or email at sanzone.stephanie@epa.gov. General information concerning the SAB can be found on the EPA Web site at http://www.epa.gov/sab.

SUPPLEMENTARY INFORMATION:

Background

The SAB was established pursuant to the Environmental Research, Development, and Demonstration Authorization Act (ERDDAA), codified at 42 U.S.C. 4365, to provide independent scientific and technical advice to the Administrator on the technical basis for agency positions and regulations. The SAB is a federal advisory committee chartered under the Federal Advisory Committee Act (FACA), 5 U.S.C., App. 2. The SAB and its panels will comply with the provisions of FACA and all appropriate SAB Staff Office procedural policies. Pursuant to FACA and EPA policy, notice is hereby given that the SAB Advisory Panel on EPA's Report on the Environment 2014 will hold a public meeting to discuss the Agency's draft Report on the Environment (ROE) 2014. This SAB panel will provide advice to the Administrator through the chartered SAB.

EPA's ROE compiles and maintains indicators on the status and trends for environmental and human health conditions related to the mission of the agency. The indicators are focused on informing questions of interest to the EPA and its mission of protecting the environment and human health. The EPA's first ROE was released in draft in 2003 with the corresponding final report released in 2008 in hard copy and online format. The SAB provided advice on two draft versions leading up to the 2008 ROE; the findings and recommendations of those SAB reviews are available on the SAB Web site at www.epa.gov/sab (see reports EPA-SAB-05-004 and EPA-SAB-08-007). In 2009, SAB members provided additional input to inform the continued development of future versions of the ROE (see report EPA-SAB-09-017). In response to suggestions from the SAB and additional comments from users of the ROE, the EPA developed the draft ROE 2014 as an entirely web-based product.

The EPA's Office of Research and Development has requested that the SAB review and comment on the recently released draft of the ROE Web site (http://www.epa.gov/draftroe) with particular attention to the new features added since the release of the 2008 report. Specifically, the Agency has requested the SAB to comment on the clarity of the ROE objectives for various audiences, the overarching conceptual framework based on a sustainability theme, the addition of statistical information for individual indicators, and the presentation of the ROE 2014 features in an online format.

The EPA made the draft ROE 2014 Web site available for public comment through April 27, 2014 (see https://www.federalregister.gov/articles/2014/03/27/2014-06824/draft-revised-epas-report-on-the-environment-2014). Public comments received by the agency will be provided to the SAB panel.

The purpose of the July 30-31, 2014, meeting is for the SAB Panel to be briefed on the ROE 2014 and to develop draft responses to a set of EPA charge questions. Additional information about this advisory activity, including the process for forming the SAB panel, can be found at the following URL: http://yosemite.epa.gov/sab/sabproduct.nsf/fedrgstr_activites/ROE%202014?OpenDocument.

Technical Contacts

Any technical questions concerning EPA's draft ROE 2014 should be directed to Dr. Jeffrey Frithsen at (703) 347-8623 or by email at frithsen.jeffrey@epa.gov.

Availability of Meeting Materials

The external review draft of the ROE 2014 is available at http://www.epa.gov/draftroe. Additional information, including the meeting agenda, the EPA charge and other materials provided to the panel, will be accessible prior to the meeting through the calendar link on the blue navigation bar at http://www.epa.gov/sab/.

Procedures for Providing Public Input

Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant written or oral information on the topic of this advisory activity (including the review materials and the charge), and/or the group conducting the activity, for the SAB to consider during the advisory process. Input from the public to the SAB will have the most impact if it provides specific scientific or technical information or analysis for SAB committees to consider or if it relates to the clarity or accuracy of the technical information. Members of the public wishing to provide comment should contact the DFO directly. Oral Statements: In general, individuals or groups requesting an oral presentation at a public meeting will be limited to five minutes. Interested parties should contact Ms. Stephanie Sanzone, DFO, in writing (preferably via email) at the contact information noted above by July 23, 2014, to be placed on the list of public speakers for the meeting.

Written Statements: Written statements should be supplied to the DFO via email at the contact information noted above by July 23, 2014, so that the information may be made available to the panel members for their consideration prior to the meeting. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility

For information on access or services for individuals with disabilities, please contact Ms. Stephanie Sanzone at (202) 564-2067 or sanzone.stephanie@epa.gov. To request accommodation of a disability, please contact Ms. Sanzone preferably at least ten days prior to the meeting to give EPA as much time as possible to process your request.

Dated: June 25, 2014.
Christopher Zarba,
Director, EPA Science Advisory Board Staff Office.

[FR Doc. 2014-16269 Filed 7-10-14; 8:45 am]

BILLING CODE 6560-50-P